DEPARTMENT OF TRANSPORTATION

Office of the Secretary

[Docket No. DOT-OST-2018-0127]

Senior Executive Service Performance Review Boards Membership

AGENCY: Office of the Secretary, Department of Transportation (DOT).

ACTION: Notice of Performance Review Board (PRB) appointments.

SUMMARY: DOT published the names of the persons selected to serve on Departmental PRBs as required.

FOR FURTHER INFORMATION CONTACT: Lisa M. Williams, Director, Departmental Office of Human Resource Management (202) 366-4088.

SUPPLEMENTARY INFORMATION: The persons named below may be selected to serve on one or more Departmental PRBs.

Issued in Washington, DC, on August 29, 2018.
Keith E. Washington,
Deputy Assistant Secretary for Administration.

Department of Transportation

Federal Highway Administration

ALICANDRI, ELIZABETH

ALONZI, ACHILLE

ARNOLD, ROBERT E.

BEZIO, BRIAN R.

BIONDI, EMILY CHRISTINE

BRIGGS, VALERIE

CALLENDER, DUANE A.

CHRISTIAN, JAMES C.

COLLINS, BERNETTA L.

CRONIN, BRIAN P.

EVANS, MONIQUE REDWINE

EVERETT, THOMAS D.

FINFROCK, ARLAN E JR.

FLEURY, NICOLLE M.

FURST, ANTHONY T.

GATTI, JONATHAN D.

GRIFFITH, MICHAEL S.

HARTMAN, JOSEPH L.

HENDRICKSON, BRANDYE

HESS, TIMOTHY G.

HUGHES RAYMAN, CAITLIN

KALLA, HARI

KEHRLI, MARK R.

KNOPP, MARTIN C.

LEONARD, KENNETH

LILLIE, MARK S.

LOTT, EVERETT

LUCERO, AMY C.

MAMMANO, VINCENT P.

MARCHESE, APRIL LYNN

OSBORN, PETER W.

PARKER, MALA

PETTY, KENNETH II

RAY, JAMES

RICHARDSON, CHRISTOPHER STEVEN

RICHTER, CHERYL ALLEN

RICO, IRENE

ROHLF, JOHN G.

SCHAFTLEIN, SHARI M.

SCHMIDT, ROBERT T.

SHEPHERD, GLORIA MORGAN

SIGEL, BETHANY RENEE

STEPHANOS, PETER J.

SUAREZ, RICHARDO

TURNER, DERRELL E.

WALKER, CHERYL J.

WINTER, DAVID R.

WRIGHT, LESLIE JANICE

ZIMMERMAN, MARY BETH

Federal Motor Carrier Administration

BECHTEL, LEONARD

COLLINS, ANNE L.

DELORENZO, JOSEPH P.

FROMM, CHARLES J.

GAUTREAUX, CATHY

HORAN, CHARLES A. III

JONES, DARIN

KEANE, THOMAS P.

MILLER, ROBERT WILLIAM

MINOR, LARRY W.

MULLEN, JIM

QUADE, WILLIAM A. III

REGAL, GERALDINE K.

RIDDLE, KENNETH H.

RUBAN, DARRELL L.

SCHREIBMAN, JACK

SMITH, STEVEN K.

THOMAS, CURTIS L.

VAN STEENBURG, JOHN W.

Federal Railroad Administration

ALEXY, JOHN KARL

ALLAHYAR, MARYAM

HARTONG, MARK W.

HERRMANN, THOMAS J.

LAUBY, ROBERT C.

LESTINGI, MICHAEL W.

LONG, MICHAEL T.

NISSENBAUM, PAUL

PENNINGTON, REBECCA A.

RENNERT, JAMIE P.

REYES, JUAN D.

REYES-ALICEA, REBECCA

RIGGS, TAMELA LYNN

STURGES, MATTHEW

Federal Transit Administration

AHMAD, MOKHTEE

BUCHANAN, HENRIKA J.

CROUCH, MATTHEW M.

GARCIA CREWS, THERESA

GARG, ARJUN

GEHRKE, LINDA M.

GOODMAN, STEPHEN C.

LITTLETON, THOMAS

NIFOSI, DANA C.

PATRICK, ROBERT C.

TAYLOR, YVETTE G.

TERWILLIGER, CINDY E.

TUCCILLO, ROBERT J.

VALDES, VINCENT

WELBES, MATTHEW J.

WILLIAMS, K. JANE

Maritime Administration

BALZANO, RICHARD A.

BRAND, LAUREN K.

BROHL, HELEN A.

BURNETT, DOUGLAS R.

CAHILL, WILLIAM H.

DAVIS, DELIA P.

DUNLAP, SUSAN LYNN

FISHER, ANTHONY JR.

HELIS, JAMES A.

KUMAR, SHASHI N.

MC MAHON, CHRISTOPHER J.

MOSCHKIN, LYDIA

PIXA, RAND R.

TOKARSKI, KEVIN M.

National Highway Traffic Safety Administration

BEUSE, NATHANIEL M.

BLINCOE, LAWRENCE J.

COGGINS, COLLEEN P.

DANIELSON, JACK H.

DOHERTY, JANE

DONALDSON, K. JOHN

GIUSEPPE, JEFFREY M.

GUNNELS, MARY D.

HATIPOGLU, CEM

HINES, DAVID M.

JOHNSON, TIM J.

KING, HIEDI R.

KOLLY, JOSEPH M.

MARSHALL, JOHN W.

MCLAUGHLIN, SUSAN

MICHAEL, JEFFREY P.

MORRISON, JONATHAN C.

PARKER, CYNTHIA D.

POSTEN, RAYMOND R.

RIDELLA, STEPHEN A.

SHELTON, TERRY T.

SPRAGUE, MARY G.

SU, EMILY H.

WOOD, STEPHEN P.

WILLIAMS, VANESTER

Office of the Secretary

ABRAHAM, JULIE

AIZCORBE, CHRISTINA

ALBRIGHT, JACK G.

AUDET, ANNE H.

AUGUSTINE, JOHN E.

AYLWARD, ANNE D.

BALDWIN, KRISTEN K.

BEDELL, ANTHONY R.

BOHNERT, ROGER V.

BURR, GEOFFREY GRANT

BURTHEY, GROVER

CARLSON, TERENCE W.

CHANG, WILLIAM

CHULUMOVICH, MADELINE

CONNORS, SUSAN M.

FLEMING, GREGG G.

FULTON, THOMAS FINCH

FUNK, JENNIFER S.

GEIER, PAUL M.

GENERO, LAURA

HANSON, ALAN

HEDBERG, BRIAN J.

HERLIHY, THOMAS W.

HILDEBRAND, VICTORIA

HOLDEN, STEPHEN H.

HOMAN, TODD M.

HORN, DONALD H.

HU, PATRICIA S.

HURDLE, LANA T.

INMAN, JAMES TODD

JACKSON, RONALD A.

JAMES, CHARLES E.

JANG, DEENA L.

JEFFERSON, DAPHNE Y.

JOYNER, GREGORY GILBERT

KALETA, JUDITH S.

KNOUSE, RUTH D.

KRAMER, JOHN E.

LAWRENCE, CHRISTINE

LEFEVRE, MARIA S.

LOHRENZ, MARIA C.

MACECEVIC, LISA J.

MARTIN, HAROLD W. III

MCCANN, BARBARA A.

MCCARTNEY, ERIN P.

MCINERNEY, MARIANNE

MCMASTER, SEAN K.B.

MEDINA, YVONNE R.

MORRIS, WILLIS A.

MOSS, JONATHAN P.

NELSON, KEITH A.

O'BERRY, DONNA

ORNDORFF, ANDREW R.

OWENS, JAMES

PAIEWONSKY, LUISA M.

PETROSINOWOOLVERTON, MARIE

PLOCKI, PETER

POPKIN, STEPHEN M.

RAY, JAMES D.

SCHMITT, ROLF R.

SHORT, DAVID

SIMPSON, JOAN B.

SMITH, WILLIE H.

SOLOMON, GERALD L.

SZABAT, JOEL M.

SZAKAL, KEITH J.A.

SZATMARY, RONALD A.

TIMOTHY, DARREN P.

WASHINGTON, KEITH E.

WILLIAMS, LISA M.

WOLF, ARIEL

WOMACK, KEVIN C.

WORKIE, BLANE A.

ZIFF, LAURA M.

Pipeline and Hazardous Materials Safety Administration

BORENER, SHERRY

BOUMA, DARLENE

CURRY, KIM Y

DAUGHERTY, LINDA

FARLEY, AUDREY L.

MAYBERRY, ALAN K.

MCMILLAN, HOWARD W.

PEARCE, DRUE

PERRIELLO, TAMI L.

ROBERTI, PAUL

SCHOONOVER, WILLIAMS S.

TSAGANOS, VASILKI B.

Saint Lawrence Seaway Development Corporation

LAVIGNE, THOMAS A.

MIDDLEBROOK, CRAIG H.

[FR Doc. 2018-19304 Filed 9-5-18; 8:45 am]

BILLING CODE 4910-9X-P